DEPARTMENT OF TRANSPORTATION

Federal Aviation Administration

14 CFR Part 97

[Docket No. 31064; Amdt. No. 3685]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 24, 2016. The compliance date for each SIAP, associated Takeoff Minimums, and ODP is specified in the amendatory provisions.

The incorporation by reference of certain publications listed in the regulations is approved by the Director of the Federal Register as of March 24, 2016.

ADDRESSES: Availability of matters incorporated by reference in the amendment is as follows:

For Examination

1. U.S. Department of Transportation, Docket Ops-M30, 1200 New Jersey Avenue SE., West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on February 26, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 31 MARCH 2016

Stuttgart, AR, Stuttgart Muni, NDB RWY 18, Amdt 10C, CANCELED

Durango, CO, Durango-La Plata County, ILS OR LOC/DME RWY 3, Amdt 5

Durango, CO, Durango-La Plata County, RNAV (GPS) RWY 3, Amdt 1

Durango, CO, Durango-La Plata County, VOR/DME RWY 3, Amdt 5A, CANCELED

Groton (New London), CT, Groton-New London, ILS OR LOC RWY 5, Amdt 11D

Groton (New London), CT, Groton-New London, RNAV (GPS) RWY 5, Orig-D

St Petersburg-Clearwater, FL, St Pete-Clearwater Intl, ILS OR LOC RWY 36R, Amdt 4

Griffin, GA, Griffin-Spalding County, RNAV (GPS) RWY 14, Orig-D

Jefferson, GA, Jackson County, VOR/DME RWY 35, Amdt 3

Washington, IA, Washington Muni, NDB RWY 31, Amdt 1A, CANCELED

Washington, IA, Washington Muni, RNAV (GPS) RWY 13, Orig

Washington, IA, Washington Muni, RNAV (GPS) RWY 18, Amdt 1

Washington, IA, Washington Muni, RNAV (GPS) RWY 31, Orig

Washington, IA, Washington Muni, RNAV (GPS) RWY 36, Amdt 1

Washington, IA, Washington Muni, Takeoff Minimums and Obstacle DP, Amdt 2

Indianapolis, IN, Eagle Creek Airpark, Takeoff Minimums and Obstacle DP, Amdt 3

Winamac, IN, Arens Field, RNAV (GPS) RWY 9, Amdt 1

Winamac, IN, Arens Field, RNAV (GPS) RWY 27, Amdt 1

Independence, KS, Independence Muni, RNAV (GPS) RWY 17, Amdt 1

Springfield, KY, Lebanon Springfield-George Hoerter Field, RNAV (GPS) RWY 11, Amdt 1

Springfield, KY, Lebanon Springfield-George Hoerter Field, RNAV (GPS) RWY 29, Amdt 1

Springfield, KY, Lebanon Springfield-George Hoerter Field, Takeoff Minimums and Obstacle DP, Amdt 3

Cumberland, MD, Greater Cumberland Rgnl, LOC-A, Amdt 4, CANCELED

Cumberland, MD, Greater Cumberland Rgnl, LOC/DME RWY 23, Amdt 7

Cumberland, MD, Greater Cumberland Rgnl, RNAV (GPS) RWY 5, Amdt 2

Cumberland, MD, Greater Cumberland Rgnl, Takeoff Minimums and Obstacle DP, Amdt 7

Blue Earth, MN, Blue Earth Muni, NDB OR GPS RWY 34, Amdt 1, CANCELED

Blue Earth, MN, Blue Earth Muni, RNAV (GPS) RWY 34, Orig

Blue Earth, MN, Blue Earth Muni, Takeoff Minimums and Obstacle DP, Orig

Park Rapids, MN, Park Rapids Muni-Konshok Field, VOR RWY 31, Amdt 14A, CANCELED

Warroad, MN, Warroad Intl Memorial, RNAV (GPS) RWY 13, Amdt 1

St Louis, MO, Spirit of St Louis, ILS OR LOC RWY 8R, Amdt 14A

St Louis, MO, Spirit of St Louis, ILS OR LOC RWY 26L, Orig-C

St Louis, MO, Spirit of St Louis, NDB RWY 8R, Amdt 11E

St Louis, MO, Spirit of St Louis, NDB RWY 26L, Amdt 3A

St Louis, MO, Spirit of St Louis, RNAV (GPS) RWY 8L, Orig-A

St Louis, MO, Spirit of St Louis, RNAV (GPS) RWY 8R, Orig-A

St Louis, MO, Spirit of St Louis, RNAV (GPS) RWY 26L, Orig-B

St Louis, MO, Spirit of St Louis, RNAV (GPS) RWY 26R, Orig-A

Greenville, MS, Greenville Mid-Delta, VOR/DME RWY 18L, Amdt 13A, CANCELED

Bowman, ND, Bowman Regional, RNAV (GPS) RWY 13, Orig

Bowman, ND, Bowman Regional, RNAV (GPS) RWY 31, Orig

Bowman, ND, Bowman Regional, Takeoff Minimums and Obstacle DP, Orig

Columbus, OH, Port Columbus Intl, ILS OR LOC RWY 28L, ILS RWY 28L (SA CAT I), ILS RWY 28L (SA CAT II), Amdt 30

Wilmington, OH, Wilmington Air Park, ILS OR LOC RWY 22R, ILS RWY 22R (CAT II), ILS RWY 22R (CAT III), Amdt 5B

Wilmington, OH, Wilmington Air Park, NDB RWY 4L, Amdt 2E, CANCELED

Wilmington, OH, Wilmington Air Park, NDB RWY 22R, Amdt 7E, CANCELED

Wilmington, OH, Wilmington Air Park, VOR RWY 4L, Amdt 6, CANCELED

Wilmington, OH, Wilmington Air Park, VOR RWY 22R, Amdt 4C, CANCELED

Wilmington, OH, Wilmington Air Park, VOR/DME RWY 22R, Amdt 5, CANCELED

Tulsa, OK, Tulsa Intl, ILS OR LOC RWY 18L, Amdt 16

Tulsa, OK, Tulsa Intl, ILS OR LOC RWY 18R, Amdt 7D

Tulsa, OK, Tulsa Intl, ILS OR LOC RWY 36R, ILS RWY 36R (SA CAT I), ILS RWY 36R (CAT II), Amdt 29E

Tulsa, OK, Tulsa Intl, RNAV (GPS) RWY 8, Amdt 2A

Tulsa, OK, Tulsa Intl, RNAV (GPS) RWY 18L, Amdt 1C

Tulsa, OK, Tulsa Intl, RNAV (GPS) RWY 18R, Amdt 1D

Tulsa, OK, Tulsa Intl, RNAV (GPS) RWY 26, Amdt 3D

Tulsa, OK, Tulsa Intl, RNAV (GPS) RWY 36L, Orig-D

Tulsa, OK, Tulsa Intl, RNAV (GPS) RWY 36R, Amdt 1B

Tulsa, OK, Tulsa Intl, Takeoff Minimums and Obstacle DP, Amdt 1A

Dillon, SC, Dillon County, NDB RWY 7, Amdt 5A, CANCELED

Centerville, TN, Centerville Muni, VOR RWY 2, Amdt 6, CANCELED

Centerville, TN, Centerville Muni, VOR/DME OR GPS RWY 2, Amdt 2, CANCELED

Sparta, TN, Upper Cumberland Rgnl, RNAV (GPS) RWY 4, Orig-C

Dallas, TX, Dallas Executive, VOR RWY 31, Amdt 1, CANCELED

Dallas, TX, Dallas Love Field, ILS OR LOC RWY 31L, Amdt 22

Dallas, TX, Dallas Love Field, ILS OR LOC RWY 31R, ILS RWY 31R (SA CAT I), Amdt 6

Dallas, TX, Dallas Love Field, ILS Y OR LOC Y RWY 13L, Amdt 33

Dallas, TX, Dallas Love Field, ILS Y OR LOC Y RWY 13R, Amdt 5A

Dallas, TX, Dallas Love Field, RNAV (GPS) Y RWY 13L, Amdt 1B

Dallas, TX, Dallas Love Field, RNAV (GPS) Y RWY 13R, Orig-A

Dallas, TX, Dallas Love Field, RNAV (GPS) Y RWY 31L, Amdt 1D

Dallas, TX, Dallas Love Field, RNAV (GPS) Y RWY 31R, Amdt 2

Dallas, TX, Dallas Love Field, RNAV (GPS) Z RWY 13L, Amdt 3

Dallas, TX, Dallas Love Field, RNAV (GPS) Z RWY 13R, Amdt 1B

Dallas, TX, Dallas Love Field, RNAV (RNP) W RWY 13L, Orig-B

Dallas, TX, Dallas Love Field, RNAV (RNP) W RWY 13R, Orig-C

Dallas, TX, Dallas Love Field, RNAV (RNP) X RWY 13L, Orig-B

Dallas, TX, Dallas Love Field, RNAV (RNP) X RWY 13R, Orig-C

Dallas, TX, Dallas Love Field, RNAV (RNP) Z RWY 31L, Orig-B

Dallas, TX, Dallas Love Field, RNAV (RNP) Z RWY 31R, Orig-B

Wichita Falls, TX, Kickapoo Downtown, RNAV (GPS) RWY 35, Amdt 1

Logan, UT, Logan-Cache, ILS OR LOC/DME RWY 17, Amdt 1

Logan, UT, Logan-Cache, RNAV (GPS) RWY 17, Amdt 2

Logan, UT, Logan-Cache, RNAV (GPS) RWY 35, Amdt 3

Auburn, WA, Auburn Muni, AUBURN ONE Graphic DP, CANCELED

Cumberland, WI, Cumberland Muni, GPS RWY 27, Orig, CANCELED

Cumberland, WI, Cumberland Muni, RNAV (GPS) RWY 9, Orig

Cumberland, WI, Cumberland Muni, RNAV (GPS) RWY 27, Orig

Cumberland, WI, Cumberland Muni, Takeoff Minimums and Obstacle DP, Orig

Lake Geneva, WI, Grand Geneva Resort, Takeoff Minimums and Obstacle DP, Amdt 1

Wisconsin Rapids, WI, Alexander Field South Wood County, NDB RWY 30, Amdt 9A, CANCELED

Effective 28 APRIL 2016

Pittsburgh, PA, Pittsburgh Intl, RNAV (RNP) Z RWY 32, Amdt 1C

RESCINDED: On February 19, 2016 (81 FR 8394), the FAA published an Amendment in Docket No. 31058, Amdt No. 3679, to Part 97 of the Federal Aviation Regulations, under section 97.23. The following entries for Greenville, MS, Rochester, NY, and Aiken, SC, effective March 3, 2016, are hereby rescinded in their entirety:

Greenville, MS, Greenville Mid-Delta, VOR/DME RWY 18L, Amdt 13A, CANCELED

Rochester, NY, Greater Rochester Intl, VOR/DME RWY 4, Amdt 4A, CANCELED

Aiken, SC, Aiken Muni, VOR/DME-A, Amdt 1A, CANCELED

[FR Doc. 2016-06324 Filed 3-23-16; 8:45 am]

BILLING CODE 4910-13-P